DEPARTMENT OF THE INTERIOR

Bureau of Ocean Energy Management

[Docket No. BOEM-2020-0018]

Draft Environmental Impact Statement on the Cook Inlet Lease Sale 258

AGENCY: Bureau of Ocean Energy Management, Interior.

ACTION: Notice of availability of a draft environmental impact statement.

SUMMARY: The Bureau of Ocean Energy Management (BOEM) announces the availability of the Draft Environmental Impact Statement (Draft EIS) for the proposed Cook Inlet Outer Continental Shelf (OCS) Oil and Gas Lease Sale 258. This notice marks the start of the public review and comment period and serves to announce public hearings on the Draft EIS. After the public hearings and written comments on the Draft EIS have been reviewed and considered, a Final EIS will be prepared. The Draft EIS and associated information, including the Exploration, Development and Production, and Decommissioning Scenario (E&D Scenario) are available for review on the agency's website at https://www.boem.gov/ak258.

DATES: Comments are due by March 1, 2021.

FOR FURTHER INFORMATION CONTACT: Amee Howard, project manager, at Bureau of Ocean Energy Management, Alaska Regional Office, 3801 Centerpoint Drive, Suite 500, Anchorage, Alaska 99503-5823, or at telephone number (907) 334-5200.

SUPPLEMENTARY INFORMATION: On January 17, 2017, the Secretary of the Interior approved the “Proposed Final 2017-2022 Outer Continental Shelf Oil and Gas Leasing Program” (National Program). The National Program includes proposed Lease Sale 258.

Cook Inlet stretches from the Gulf of Alaska to Anchorage in south-central Alaska. The proposed lease sale would offer for lease all available OCS blocks in the northern portion of the Cook Inlet Planning Area. The proposed lease sale area comprises 224 OCS blocks, which covers an area of approximately 1.09 million acres.

On September 10, 2020, BOEM published in the Federal Register the notice of intent (NOI) to prepare an EIS in support of Lease Sale 258. Publication of the NOI opened a public comment period that extended through October 13, 2020. In September 2020, BOEM held a series of public scoping meetings for the EIS. The comments received during the public scoping period were used to inform the scope and content of this Draft EIS.

Proposed action: The proposed action addressed in the Draft EIS is to conduct an oil and gas lease sale on portions of the Cook Inlet OCS Planning Area. Proposed Lease Sale 258 would provide qualified bidders the opportunity to bid on OCS lease blocks in Cook Inlet to gain conditional rights to explore, develop, and produce oil and natural gas.

The Draft EIS analyzes the potential direct, indirect, and cumulative environmental impacts of the proposed lease sale on the physical, biological, and human environments in the Cook Inlet area. See 40 CFR 1508.8 (2019 ed.). The Draft EIS describes a hypothetical scenario of exploration, development, production, and decommissioning activities that could result from the proposed lease sale and analyzes the potential impacts of those activities on the environment. The Draft EIS also analyzes reasonable alternatives to the proposed action. In addition to the Proposed Action and the No Action Alternative, BOEM analyzed three alternatives consistent with internal agency scoping, past public input from National Programs and previous lease sales, and comments received during the scoping period following publication of the NOI in September 2020 to prepare an EIS. The three alternatives address potential impacts to the Cook Inlet Distinct Population Segment (DPS) of the beluga whale, the Southwest Alaska DPS of the northern sea otter, and the Cook Inlet drift gillnet fishery.

The proposed lease sale area defers certain areas from consideration due to potential conflicts with resources of high ecological and subsistence value. These deferred areas include: (1) The majority of the designated critical habitat for beluga whale and northern sea otter, and all of the critical habitat for Stellar seas lions and the North Pacific right whale, that are located within the Planning Area; (2) a buffer between the area considered for leasing and the Katmai National Park and Preserve, the Kodiak National Wildlife Refuge, and the Alaska Maritime National Wildlife Refuge; and (3) many of the subsistence use areas for the Native Villages of Nanwalek, Seldovia, and Port Graham identified during the Cook Inlet Lease Sale 191 process.

In this Draft EIS, BOEM has examined the potential environmental effects of activities that could result from the Lease Sale 258 proposed action along with several alternatives. The Draft EIS is based on BOEM estimates of the potential oil and gas resources in the proposed lease sale area and an associated scenario that estimates a range of potential oil and gas activities, including exploration, seismic surveying, on-lease ancillary activities, exploration and delineation drilling, development, production, and decommissioning.

Comment Submission: The public and all interested parties, including Federal, state, tribal, and local governments or agencies, are invited to submit written comments on the Draft EIS and associated information, including the E&D Scenario, through the Federal eRulemaking Portal: http://www.regulations.gov. In the field entitled “Enter Keyword or ID,” enter “BOEM-2020-0018,” and then click “search.” Follow the instructions to submit comments and view supporting and related materials available for this notice.

BOEM does not accept anonymous comments. Name and contact information are required to submit comments on the Federal eRulemaking Portal. Before including your address, phone number, email address or other personal identifying information within the body of your comment, you should be aware that your entire comment, including your personal identifying information, may be made publicly available at any time. While you can ask BOEM in your comment to withhold your personal identifying information from public review, BOEM cannot guarantee that it will be able to do so.

Public Hearings: BOEM will host virtual public hearings on the Draft EIS in February 2021. Information regarding these hearings can be found at https://www.boem.gov/ak258. The purpose of these hearings is to receive public comments on the Draft EIS. These hearings are scheduled as follows:

• February 9, 2021; 2:00 p.m.-4:00 p.m. (Alaska Standard Time (AKST))

• February 10, 2021; 6:30 p.m.-8:30 p.m. (AKST)

• February 11, 2021; 2:00 p.m.-4:00 p.m. (AKST)

Authority: 42 U.S.C. 4231 et seq.; 43 CFR 46.415 (2019 ed.).

Walter D. Cruickshank,
Acting Director, Bureau of Ocean Energy Management.

[FR Doc. 2021-00781 Filed 1-14-21; 8:45 am]

BILLING CODE 4310-MR-P